DEPARTMENT OF COMMERCE

National Oceanic and Atmospheric Administration

50 CFR Part 679

[Docket No. 010112013-1013-01; I.D. 022201A]

Fisheries of the Exclusive Economic Zone Off Alaska; Groundfish by Vessels Using Non-Pelagic Trawl Gear in the Red King Crab Savings Subarea

AGENCY: National Marine Fisheries Service (NMFS), National Oceanic and Atmospheric Administration (NOAA), Commerce.

ACTION: Modification of a closure.

SUMMARY: NMFS is opening directed fishing for groundfish with non-pelagic trawl gear in the red king crab savings subarea (RKCSS) of the Bering Sea and Aleutian Islands management area (BSAI). This action is necessary to utilize the amount of the 2001 red king crab bycatch limit specified for the RKCSS.

DATES: Effective 1200 hrs, Alaska local time (A.l.t.), February 23, 2001, until 1200 hrs, A.l.t., February 27, 2001.

FOR FURTHER INFORMATION CONTACT: Mary Furuness, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and CFR part 679.

The amount of the 2001 red king crab bycatch limit specified for the RKCSS was established as 22,674 animals by the 2001 Harvest Specifications of Groundfish (66 FR 7276, January 22, 2001). The directed fishery for groundfish with non-pelagic trawl gear was closed effective 1200 hrs, A.l.t., February 18, 2001 in accordance with § 679.21(e)(7)(ii)(B)(66 FR 11123, February 22, 2001) because it was expected that the 2001 red king crab bycatch limit specified for the RKCSS would be caught.

NMFS has determined that as of February 20, 2001, 6,000 red king crab remain in the 2001 red king crab bycatch limit specified for the RKCSS. Therefore, NMFS is terminating the previous closure and is re-opening directed fishing for groundfish with non-pelagic trawl gear in the RKCSS in accordance with § 679.21(e)(3)(ii)(B).

Classification

All other closures remain in full force and effect. This action responds to the best available information recently obtained from the fishery. The Assistant Administrator for Fisheries, NOAA, finds that the need to immediately implement this action in order to allow full utilization of the remaining amount of the 2001 red king crab bycatch limit specified for the RKCSS constitutes good cause to waive the requirement to provide prior notice opportunity for public comment pursuant to the authority set forth at 5 U.S.C. 553(b)(3)(B) and 50 CFR 679.20(b)(3)(iii)(A), as such procedures would be unnecessary and contrary to the public interest. Similarly the need to implement these measures in a timely fashion to allow full utilization of the remaining amount of the 2001 red king crab bycatch limit specified for the RKCSS constitutes good cause to find that the effective date of this action cannot be delayed for 30 days. Accordingly, under 5 U.S.C. 553(d), a delay in the effective date is hereby waived.

This action is required by § 679.21 and is exempt from review under Executive Order 12866.

Authority: 16 U.S.C. 1801 et seq.

Dated: February 22, 2001.
Richard W. Surdi,
Acting Director, Office of Sustainable Fisheries, National Marine Fisheries Service.

[FR Doc. 01-4863 Filed 2-23-01; 3:17 pm]

BILLING CODE 3510-22-S